SECURITIES AND EXCHANGE COMMISSION

[Release No. 35-27742]

Filings Under the Public Utility Holding Company Act of 1935, as Amended (“Act”)

October 23, 2003.

Notice is hereby given that the following filing(s) has/have been made with the Commission under provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by November 17, 2003, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After November 17, 2003 the application(s) and/or declaration(s), as filed or as amended, may be granted and/or permitted to become effective.

Alliant Energy Corporation, et al. (70-9891)

Alliant Energy Corporation. (“Alliant Energy”), a registered holding company under the Act, Alliant Energy Resources, Inc. (“AER”), a nonutility subsidiary of Alliant Energy, both located at 4902 N. Biltmore Lane, Madison, Wisconsin 53718; AER's direct nonutility subsidiaries Alliant Energy Integrated Services Company and its subsidiaries, Alliant Energy Investments, Inc. and its subsidiaries, and Alliant Energy Transportation, Inc., all located at 200 First Street S.E., Cedar Rapid, Iowa 52401; and AER's subsidiaries Whiting Oil and Gas Corporation (“Whiting Oil and Gas”); ¹ and Whiting Petroleum Corporation (“WPC”),² all located at Mile High Center, Suite 2300, 1700 Broadway, Denver, Colorado 80290-2300 (collectively, “Applicants”), have filed a post-effective amendment under sections 9(a) and 10 of the Act and rule 54 under the Act to their application-declaration (“Post-Effective Amendment”).

¹ Whiting Oil and Gas was formerly known as Whiting Petroleum Corporation.

² WPC was formerly known as Whiting Petroleum Holdings, Inc. WPC is a new intermediate subsidiary formed by AER to become a holding company over Whiting Oil and Gas.

By order dated October 3, 2001 (“Prior Order”),³ as amended by a supplemental order dated December 17, 2002 (“Supplemental Order”),⁴ the Commission authorized Alliant Energy, AER and certain other nonutility subsidiaries of Alliant Energy (“Nonutility Subsidiaries”), through December 31, 2004 (“Authorization Period”), to engage in a program of external long-term financing transactions, to provide guarantees and other forms of credit support with respect to obligations of subsidiaries of Alliant Energy, to enter into interest rate hedges, to engage in certain non-utility energy-related activities, and to engage in certain other related transactions.

³ HCAR No. 27448 (October 3, 2001).

⁴ HCAR No. 27620 (December 17, 2002).

In the Prior Order, the Commission authorized Alliant Energy, through AER and its other Nonutility Subsidiaries, to invest in certain types of energy-related nonutility assets in the United States and Canada, specifically including natural gas production, gathering, processing, storage and transportation facilities and equipment, liquid oil reserves and storage facilities, and associated facilities (collectively, “Energy Assets”), that are incidental to the ongoing oil and gas exploration and production and energy marketing, brokering and trading operations of the Nonutility Subsidiaries. The Commission also authorized AER and its subsidiaries to invest up to $800 million (“Investment Limitation”) at any one time outstanding during the Authorization Period in Energy Assets or in the equity securities of existing or new companies substantially all of whose physical properties consist or will consist of Energy Assets.⁵

⁵ Applicants state that, as of June 30, 2003, AER and its subsidiaries had made investments during the Authorization Period in Energy Assets totaling approximately $384 million, of which $379 million represented investments in oil and gas exploration and production properties by Whiting Oil and Gas.

Applicants request a modification to the Prior Order to: (i) authorize WPC,⁶ Whiting Oil and Gas and their subsidiaries to invest up to $800 million at any one time outstanding in Energy Assets (“WPC Investment Limitation”) and (ii) reduce the current Investment Limitation under the Prior Order from $800 million to $200 million (“New AER Investment Limitation”).⁷ Only those existing investments in Energy Assets made by AER through subsidiaries other than Whiting Oil and Gas (approximately $5 million as of June 30, 2003) and new investments in Energy Assets by AER or its subsidiaries (other than WPC and its subsidiaries) after the IPO (or other sale of at least 50% of WPC's or Whiting Oil and Gas's common stock) will be counted against the New AER Investment Limitation. Existing investments in Energy Assets by Whiting Oil and Gas as of the date of the IPO (or other sale of at least 50% of WPC's or Whiting Oil and Gas's common stock) (approximately $379 million as of June 30, 2003) will be counted against the WPC Investment Limitation. Other than the proposed modifications proposed by the Applicants, all other terms, conditions, limitations and restrictions under the Prior Order and Supplemental Order, as applied to Energy Assets, will continue to apply during the Authorization Period.

⁶ Applicants state that on July 25, 2003, WPC (under the name Whiting Petroleum Holdings, Inc.) filed a Registration Statement on Form S-1 (File No. 333-107341) with respect to an initial public offering (“IPO”) of its common stock. AER states that it expects to sell at least 51% of the issued and outstanding common stock of WPC in the IPO. Applicants state that it expects that the IPO will be completed by the end of November 2003. Applicants further state that AER intends to divest its remaining interest in WPC during the first half of 2004, subject to market conditions. Thus, Applicants request in this Post-Effective Amendment, that the modification to the Prior Order be granted, subject only to the sale of at least 50% of the common stock of WPC or Whiting Oil and Gas to one or more purchasers in a public or negotiated private sale.

⁷ The proposed modifications would increase the overall investment limitation in Energy Assets from the $800 million authorized in the Prior Order to $1 billion.

For the Commission, by the Division of Investment Management, under delegated authority.
Margaret H. McFarland,
Deputy Secretary.

[FR Doc. 03-27225 Filed 10-28-03; 8:45 am]

BILLING CODE 8010-01-P